DEPARTMENT OF COMMERCE

National Oceanic and Atmospheric Administration

[I.D. 122203D]

Endangered and Threatened Species; Take of Anadromous Fish

AGENCY: National Marine Fisheries Service (NMFS), National Oceanic and Atmospheric Administration (NOAA), Commerce.

ACTION: Receipt of an application for a scientific research/enhancement permit (1463); request for comment.

SUMMARY: Notice is hereby given that NMFS has received an application for a permit from Ted Sedell, U. S. Forest Service in Corvallis, OR (permit 1463). The permit would affect one Evolutionarily Significant Unit (ESU) of salmonids identified in the Supplementary Information section of this notice. This document serves to notify the public of the availability of the permit application for review and comment before a final approval or disapproval is made by NMFS.

DATES: Written comments must be received at the appropriate address or fax number (see ADDRESSES) no later than 5 p.m. Daylight Savings Time on February 17, 2004.

ADDRESSES: Written comments on the modification request should be sent to the Arcata Field Office, Protected Resources Division, NMFS, 1655 Heidon Road, Arcata, CA, 95521. Comments may also be sent via fax to 707 825 4840. Comments will not be accepted if submitted via e-mail or the Internet.

The permit application and related documents are available for review, by appointment at the Arcata Field Office, Protected Resources Division, NMFS, 1655 Heidon Road, Arcata, CA, 95521, (ph: 707-825-5180; fax: 707 825 4840).

FOR FURTHER INFORMATION CONTACT: Karen Hans at 707-825-5180, or e-mail: Karen.Hans@noaa.gov.

SUPPLEMENTARY INFORMATION:

Authority

Issuance of permits and permit modifications, as required by the Endangered Species Act of 1973 (16 U.S.C. 1531 1543) (ESA), is based on a finding that such permits/modifications (1) Are applied for in good faith, (2) would not operate to the disadvantage of the listed species which are the subject of the permits, and (3) are consistent with the purposes and policies set forth in section 2 of the ESA. Authority to take listed species is subject to conditions set forth in the permits. Permits and permit modifications are issued in accordance with and are subject to the ESA and NMFS regulations governing listed fish and wildlife permits (50 CFR parts 222-226).

This notice is relevant to the following ESU:

Coho salmon (Oncorhynchus kisutch): threatened Southern Oregon/Northern California Coast (SONCC).

Individuals requesting a hearing on the application listed in this notice should set out in writing the specific reasons why a hearing on that application would be appropriate (see ADDRESSES). The holding of such a hearing is at the discretion of the Assistant Administrator for Fisheries, NOAA. All statements and opinions contained in the permit action summaries are those of the applicant and do not necessarily reflect the views of NMFS.

Permit Application Received

Ted Sedell, U.S. Forest Service, requests a permit for the take of 700 juvenile ESA-listed SONCC coho salmon associated with studies assessing presence and population abundances of fish and amphibian species in selected streams/rivers throughout northern California. The study is part of a larger survey program designed to monitor land use actions on all federal lands covered by the Northwest Forest Plan (NWFP). The applicant proposes to use single pass electrofishing as the method of capture. Permit 1463 will expire December 31, 2006.

Dated: January 9, 2004.
Phil Williams,
Chief, Endangered Species Division, Office of Protected Resources, National Marine Fisheries Service.

[FR Doc. 04-908 Filed 1-14-04; 8:45 am]

BILLING CODE 3510-22-S